DEPARTMENT OF COMMERCE

National Oceanic and Atmospheric Administration

Proposed Information Collection; Comment Request; Northwest Region Federal Fisheries Permits

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 23, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Kevin A. Ford, (206) 526-6115 or e-mail at kevin.ford@noaa.gov.

SUPPLEMENTARY INFORMATION:

I. Abstract

NOAA, National Marine Fisheries Service (NMFS) seeks comment on the renewal of permit information collections required to: (1) Renew and transfer of Pacific Coast Groundfish limited entry permits; (2) implement certain provisions of the sablefish permit stacking program as provided for at 50 CFR 660.372 and 660.334; and (3) issue and fulfill the terms and conditions of certain exempted fishing permits (EFP).

NMFS, Northwest Region manages the Pacific Coast Groundfish Fishery in the Exclusive Economic Zone (EEZ) off Washington, Oregon, and California under the Pacific Coast Groundfish Fishery Management Plan. The regulations implementing the Pacific Groundfish Fishery require that those individuals participating in the limited entry fishery have a valid limited entry permit. Participation in the fishery and access to a limited entry permit has been restricted to control the overall harvest capacity.

Each year permit owners are required to renew their permits by reviewing their current permit information, providing updated contact information and certifying that the permit information is correct. Similarly, a permit owner is required to request in writing a permit transfer which may involve either registering another vessel to the permit and/or conveying the permit to another person or business entity. Additional information may be requested from the permit owner to determine compliance with groundfish regulations. The regulations implementing the limited entry program are found at 50 CFR Part 660, Subpart G.

Also, NMFS requires information collections to implement a sablefish permit stacking program which will allow NMFS to prevent excessive fleet consolidation. This information collection requires a corporation or partnership that owns or holds a sablefish endorsed permit to provide an ownership interest form listing all individuals with ownership interest in the entity as part of the annual renewal process and as part of any sablefish endorsed permit transfer involving a business entity either given as the permit owner or as the vessel owner. Also, for transfer requests after April 1st and October 30th, the permit owner is required to report the remaining pounds (not yet harvested) on a sablefish endorsed permit at the time of transfer.

Applicants for exempted fishing permit must submit written information that allows NMFS to evaluate the exempted fishing activity and weigh the benefits and costs of the proposed activities. The information included in an application is specified at 50 CFR 600.745(b)(2). Permit holders are required to file preseason plans, summary reports on the results of the experiments or data collection and in some cases individual vessels and other permit holders are required to provide data reports. There is also a requirement of a call-in notification prior to the fishing trip. This information allows NMFS to evaluate the techniques used and decide if management regulations should be approved as is, modified, or disapproved.

II. Method of Collection

Renewal forms are mailed to all permit owners and are submitted by mail to NOAA, NMFS, Northwest Region. Transfer forms are available from the region's Web site but must be submitted by mail or in person. Applications for an exempted fishing permit must be submitted in a written format. The exempted fishing permit data reports may be submitted in person, faxed, submitted by telephone or e-mailed by the monitor, plant manager, vessel owner or operator to NMFS or the states of Washington, Oregon, or California.

Data

OMB Control Number: 0648-0203.

Form Number: None.

Type of Review: Regular submission.

Affected Public: Not-for-profit institutions, state government, individuals or households, and business or other for-profits organizations.

Estimated Number of Respondents: 336.

Estimated Time per Response: 30 minutes per exempted fishing permit (EFP) application; 24 hours for an EFP summary report; 43 minutes for an EFP data report; 2 minutes for EFP trip notification; 20 minutes for a limited entry permit transfer form; 20 minutes for a renewal form; 10 minutes to provide mid season transfer information for a sablefish endorsed limited entry permit; and 30 minutes for a sablefish permit ownership interest form.

Estimated Total Annual Burden Hours: 2,015.

Estimated Total Annual Cost to Public: $757,728.

III. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 21, 2009.
Gwellnar Banks,
Management Analyst, Office of the Chief Information Officer.

[FR Doc. E9-9415 Filed 4-23-09; 8:45 am]

BILLING CODE 3510-22-P